DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION SECTION for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director Compliance, tel.: 202-622-2490.

SUPPLEMENTARY INFORMATION:

Electronic Availability

The SDN List and additional information concerning OFAC sanctions programs are available on OFAC's website (https://www.treasury.gov/ofac).

Notice of OFAC Actions

On June 17, 2024, OFAC determined that the property and interests in property subject to U.S. jurisdiction of the following persons are blocked under the relevant sanctions authorities listed below.

Individual

1. AL-WAZIR, Ali Abd-Al-Wahhab Muhammad (a.k.a. “AL-WAZIR, Ali”; a.k.a. “PRINCE”), Guangzhou, China; DOB 25 Dec 1978; nationality Yemen; Gender Male; Secondary sanctions risk: section 1(b) of Executive Order 13224, as amended by Executive Order 13886; Passport 03692384 (Yemen) expires 26 Jul 2015 (individual) [SDGT] (Linked To: ANSARALLAH).

Designated pursuant to section 1(a)(iii)(A) of Executive Order 13224 of September 23, 2001, “Blocking Property and Prohibiting Transactions With Persons Who Commit, Threaten to Commit, or Support Terrorism” (E.O. 13224), 66 FR 49079, as amended by Executive Order 13886 of September 9, 2019, “Modernizing Sanctions To Combat Terrorism,” 84 FR 48041, 3 CFR, 2019 Comp., p. 356 (E.O. 13224, as amended) for having acted or purported to act for or on behalf of, directly or indirectly, ANSARALLAH, a person whose property and interests in property are blocked pursuant to E.O. 13224, as amended.

2. AL-HAIFI, Muaadh Ahmed Mohammed (a.k.a. AL-HAYFI, Mu'adh Ahmad Muhammad), Muscat, Oman; DOB 1981; POB Sanaa, Al-Amanah, Yemen; nationality Yemen; Gender Male; Secondary sanctions risk: section 1(b) of Executive Order 13224, as amended by Executive Order 13886; Passport 03397777 (Yemen) expires 04 Jan 2015 (individual) [SDGT] (Linked To: INTERNATIONAL SMART DIGITAL INTERFACE LIMITED LIABILITY COMPANY).

Designated pursuant to section 1(a)(iii)(A) of E.O. 13224, as amended, for having acted or purported to act for or on behalf of, directly or indirectly, INTERNATIONAL SMART DIGITAL INTERFACE LIMITED LIABILITY COMPANY, a person whose property and interests in property are blocked pursuant to E.O. 13224, as amended.

Entities

1. INTERNATIONAL SMART DIGITAL INTERFACE LIMITED LIABILITY COMPANY (a.k.a. INTERNATIONAL SMART DIGITAL INTERFACE LLC), 8730 Way Block No. 387, Almaabilah South, Muscat, Muscat Governorate, Oman; Al Seeb, South Al Mabilah, Muscat Governorate, Oman; Secondary sanctions risk: section 1(b) of Executive Order 13224, as amended by Executive Order 13886; Organization Established Date 26 Mar 2018; Registration Number 1316463 (Oman) issued 26 Mar 2018 expires 05 Mar 2023 [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

2. TASNEEM TRADING COMPANY LIMITED, Unit 04-05, 16th Floor, the Broadway, No. 54-62 Lockhart Road, Wanchai, Hong Kong, China; Secondary sanctions risk: section 1(b) of Executive Order 13224, as amended by Executive Order 13886; Organization Established Date 07 Oct 2013; Company Number 1976604 (Hong Kong) [SDGT] (Linked To: GUANGZHOU TASNEEM TRADING COMPANY LIMITED).

Designated pursuant to section 1(a)(iii)(B) of E.O. 13224, as amended, for owning or controlling, directly or indirectly, GUANGZHOU TASNEEM TRADING COMPANY LIMITED, a person whose property and interests in property are blocked pursuant to E.O. 13224.

3. GUANGZHOU TASNEEM TRADING COMPANY LIMITED (a.k.a. GUANGZHOU TAZNING TRADING CO., LTD.; a.k.a. “GUANGZHOU TAZI NING COMMERCIAL TRADE CO., LTD.”), Huan Shi Xi Lu 37 Hao, 719 Fang, Li Wan Qu, Guangzhou, Guangdong 510000, China; 1020 No. 37, Huanshi West Road, Liwan District, Guangzhou, Guangdong 510000, China; Secondary sanctions risk: section 1(b) of Executive Order 13224, as amended by Executive Order 13886; Organization Established Date 26 Feb 2014; Registration Number 440101400149579 (China); Unified Social Credit Code (USCC) 91440101085957441G (China) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

4. NINGBO BEILUN SAIGE MACHINE CO., LTD., No. 2, Building 15, No. 428, Songhuajiang Road, Xinqi, Beilun District, Ningbo, Zhejiang 315800, China; website www.nbsaige.com; Secondary sanctions risk: section 1(b) of Executive Order 13224, as amended by Executive Order 13886; Organization Established Date 14 Dec 2010; Registration Number 330206000106175 (China); Unified Social Credit Code (USCC) 91330206567000255M (China) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

5. DONGGUAN YUZE MACHINING TOOLS COMPANY LIMITED (a.k.a. “HONGKONG YOUCI LIMITED”; a.k.a. “YUZE MACHINING TOOLS”; a.k.a. “YUZE YUDING MACHINERY”; a.k.a. “YUZE YUDING MACHINING TOOLS CO., LTD.”; a.k.a. “YUZETOOLS”), Room 6, Building H, Changan Commercial Center, Changan Town, Donguan, Guangdong, China; website www.yuzemachinery.com; Secondary sanctions risk: section 1(b) of Executive Order 13224, as amended by Executive Order 13886; Organization Established Date 08 Jun 2017; Unified Social Credit Code (USCC) 91441900MA4WN7NF7W (China) [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224.

Dated: June 17, 2024.
Bradley T. Smith,
Director, Office of Foreign Assets Control, U.S. Department of the Treasury.

[FR Doc. 2024-13630 Filed 6-20-24; 8:45 am]

BILLING CODE 4810-AL-P